DEPARTMENT OF ENERGY

Federal Energy Regulatory Commission

Combined Notice of Filings #1

Take notice that the Commission received the following electric corporate filings:

Docket Numbers: EC11-72-000.

Applicants: Synergics Roth Rock Wind Energy, LLC, Synergics Roth Rock North Wind Energy, L, Gestamp Eolica S.L.

Description: Amendment to Application of Synergics Roth Rock Wind Energy, LLC, et. al.

Filed Date: 05/20/2011.

Accession Number: 20110520-5167.

Comment Date: 5 p.m. Eastern Time on Friday, June 3, 2011.

Docket Numbers: EC11-83-000.

Applicants: Exelon Corporation, Constellation Energy Group, Inc.

Description: Joint Application for Authorization of Disposition of Jurisdictional Assets and Merger Under Section 203 of the Federal Power Act of Constellation Energy Group, Inc. and Exelon Corporation.

Filed Date: 05/20/2011.

Accession Number: 20110520-5165.

Comment Date: 5 p.m. Eastern Time on Tuesday, July 19, 2011.

Docket Numbers: EC11-84-000.

Applicants: Montgomery L'Energia Power Partners LP, Tanner Street Generation, LLC.

Description: Joint Application for Authorization Under Section203 of the FPA of Montgomery L'Energia Power Partners LP, et. al.

Filed Date: 05/23/2011.

Accession Number: 20110523-5016.

Comment Date: 5 p.m. Eastern Time on Monday, June 13, 2011.

Take notice that the Commission received the following exempt wholesale generator filings:

Docket Numbers: EG11-83-000.

Applicants: Alta Wind IV Owner Lessor A.

Description: Notice of Self-Certification of EWG Status of Alta Wind IV Owner Lessor A.

Filed Date: 05/20/2011.

Accession Number: 20110520-5012.

Comment Date: 5 p.m. Eastern Time on Friday, June 10, 2011.

Docket Numbers: EG11-84-000.

Applicants: Alta Wind IV Owner Lessor B.

Description: Notice of Self-Certification of EWG Status of Alta Wind IV Owner Lessor B.

Filed Date: 05/20/2011.

Accession Number: 20110520-5013.

Comment Date: 5 p.m. Eastern Time on Friday, June 10, 2011.

Docket Numbers: EG11-85-000.

Applicants: Alta Wind IV Owner Lessor C.

Description: Notice of Self-Certification of EWG Status of Alta Wind IV Owner Lessor C.

Filed Date: 05/20/2011.

Accession Number: 20110520-5014.

Comment Date: 5 p.m. Eastern Time on Friday, June 10, 2011.

Docket Numbers: EG11-86-000.

Applicants: Alta Wind IV Owner Lessor D.

Description: Notice of Self-Certification of EWG Status of Alta Wind IV Owner Lessor D.

Filed Date: 05/20/2011.

Accession Number: 20110520-5015.

Comment Date: 5 p.m. Eastern Time on Friday, June 10, 2011.

Take notice that the Commission received the following electric rate filings:

Docket Numbers: ER11-3431-001.

Applicants: New Mexico Green Initiatives, LLC.

Description: New Mexico Green Initiatives, LLC submits tariff filing per 35.17(b): NM Green Initiatives MBR Amendment to be effective 4/26/2011.

Filed Date: 05/20/2011.

Accession Number: 20110520-5152.

Comment Date: 5 p.m. Eastern Time on Friday, June 10, 2011.

Docket Numbers: ER11-3605-000.

Applicants: Glacial Energy Holdings.

Description: Glacial Energy Holdings submits Out-of-Time Motion of For Designation As A Category 1 Seller in All Regions.

Filed Date: 05/19/2011.

Accession Number: 20110519-5098.

Comment Date: 5 p.m. Eastern Time on Thursday, June 09, 2011.

Docket Numbers: ER11-3606-000.

Applicants: AEP Texas North Company.

Description: AEP Texas North Company submits tariff filing per 35.13(a)(2)(iii: TNC-ETT Amended IA, to be effective 5/19/2011.

Filed Date: 05/20/2011.

Accession Number: 20110520-5035.

Comment Date: 5 p.m. Eastern Time on Friday, June 10, 2011.

Docket Numbers: ER11-3607-000.

Applicants: AEP Texas North Company.

Description: AEP Texas North Company submits tariff filing per 35.13(a)(2)(iii: TNC-PSO-ETT IA, to be effective 5/19/2011.

Filed Date: 05/20/2011.

Accession Number: 20110520-5036.

Comment Date: 5 p.m. Eastern Time on Friday, June 10, 2011.

Docket Numbers: ER11-3608-000.

Applicants: AEP Texas North Company.

Description: AEP Texas North Company submits tariff filing per 35.13(a)(2)(iii: 20110520 TNC-SWTEC IA, to be effective 5/19/2011.

Filed Date: 05/20/2011.

Accession Number: 20110520-5039.

Comment Date: 5 p.m. Eastern Time on Friday, June 10, 2011.

Docket Numbers: ER11-3609-000.

Applicants: AEP Texas North Company.

Description: AEP Texas North Company submits tariff filing per 35.13(a)(2)(iii: 20110520 TNC-TEC IA to be effective 5/19/2011.

Filed Date: 05/20/2011.

Accession Number: 20110520-5040.

Comment Date: 5 p.m. Eastern Time on Friday, June 10, 2011.

Docket Numbers: ER11-3610-000.

Applicants: Public Service Company of Oklahoma.

Description: Public Service Company of Oklahoma submits tariff filing per 35.13(a)(2)(iii: 20110520 PSO-OGE Tall Bear FA to be effective 5/2/2011.

Filed Date: 05/20/2011.

Accession Number: 20110520-5043.

Comment Date: 5 p.m. Eastern Time on Friday, June 10, 2011.

Docket Numbers: ER11-3611-000.

Applicants: Basin Electric Power Cooperative, Inc.

Description: Basin Electric Power Cooperative submits Rate Modification in Joint Tariff.

Filed Date: 05/20/2011.

Accession Number: 20110520-5098.

Comment Date: 5 p.m. Eastern Time on Friday, June 10, 2011.

Docket Numbers: ER11-3612-000.

Applicants: Entergy Arkansas, Inc.

Description: Entergy Arkansas, Inc. submits tariff filing per 35.13(a)(2)(iii: PLUM NLR DTOA refile to be effective 5/1/2011.

Filed Date: 05/20/2011.

Accession Number: 20110520-5105.

Comment Date: 5 p.m. Eastern Time on Friday, June 10, 2011.

Docket Numbers: ER11-3613-000.

Applicants: Wabash Valley Power Association, Inc.

Description: Wabash Valley Power Association, Inc. submits tariff filing per 35.13(a)(2)(iii: Submission of Carroll County REMC Service Agreement to be effective 7/19/2011.

Filed Date: 05/20/2011.

Accession Number: 20110520-5108.

Comment Date: 5 p.m. Eastern Time on Friday, June 10, 2011.

Docket Numbers: ER11-3614-000.

Applicants: Glacial Energy Holdings.

Description: Glacial Energy Holdings submits tariff filing per 35.1: Market-Based Rate Tariff of Glacial Energy Holdings to be effective 5/23/2011.

Filed Date: 05/20/2011.

Accession Number: 20110520-5130.

Comment Date: 5 p.m. Eastern Time on Friday, June 10, 2011.

Docket Numbers: ER11-3615-000.

Applicants: Fred Meyer Stores, Inc.

Description: Fred Meyer Stores, Inc. submits tariff filing per 35.12: Baseline new to be effective 7/22/2011.

Filed Date: 05/20/2011.

Accession Number: 20110520-5131.

Comment Date: 5 p.m. Eastern Time on Friday, June 10, 2011.

Docket Numbers: ER11-3616-000.

Applicants: California Independent System Operator Corporation.

Description: California Independent System Operator Corporation submits tariff filing per 35.13(a)(2)(iii: 2011-05-20 CAISO Reliability Demand Response Resource Amendment to be effective 10/1/2011.

Filed Date: 05/20/2011.

Accession Number: 20110520-5140.

Comment Date: 5 p.m. Eastern Time on Friday, June 10, 2011.

Take notice that the Commission received the following electric securities filings:

Docket Numbers: ES11-34-000.

Applicants: NorthWestern Corporation.

Description: NorthWestern Corporation Application for Authorization under Section 204 of the Federal Power Act and Request for Shortened Comment Period.

Filed Date: 05/20/2011.

Accession Number: 20110520-5163.

Comment Date: 5 p.m. Eastern Time on Friday, June 10, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: May 23, 2011.
Nathaniel J. Davis, Sr.,
Deputy Secretary.

[FR Doc. 2011-13217 Filed 5-26-11; 8:45 am]

BILLING CODE 6717-01-P